DEPARTMENT OF TRANSPORTATION

Federal Aviation Administration

33rd Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-first meeting of the RTCA Special Committee 206, Aeronautical Information and Meteorological Data Link Services.

DATES: The meeting will be held April 29-May 3, 8:30 a.m.-5:00 p.m.

ADDRESSES: The meeting will be held at NCAR, 3080 Center Green Drive, Boulder, CO 80301.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 206. The agenda will include the following:

April 29-May 3

• Introduction and opening remarks

• Review and approve meeting agenda

• Approval of previous meeting minutes

• Action item review

• PMC update (TOR & ISRA process changes)

• NCAR Overview—Tenny Lindholm

• Industry coordination

• Sub-Groups status and week's plan

• Other Business

• Sub-Groups meetings Break out, as necessary daily

• EDR Turbulence Standards Project Briefing from FAA SE2020 Team

• SG6 WG1 Architecture and MASPS presentations

• SG3 AIS and MET Services Delivery Architecture Recommendations Document Review (FRAC release approval).

• Closing Plenary—Sub-Groups reports

• Action item review

• Future meeting plans and dates

• Other business

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on March 28, 2013.
Paige Williams,
Management Analyst, NextGen, Business Operations Group, Federal Aviation Administration.

[FR Doc. 2013-07716 Filed 4-2-13; 8:45 am]

BILLING CODE 4910-13-P